DEPARTMENT OF HOMELAND SECURITY

Federal Emergency Management Agency

[Docket ID FEMA-2016-0011]

Individuals and Households Program Unified Guidance

AGENCY: Federal Emergency Management Agency, DHS.

ACTION: Notice of availability.

SUMMARY: This document provides notice of the availability of the final Individuals and Households Program Unified Guidance. The Federal Emergency Management Agency (FEMA) published a notice of availability and request for comment for the proposed guidance on June 15, 2016 at 81 FR 39061.

DATES: The Individuals and Households Program Unified Guidance is effective on September 30, 2016.

ADDRESSES: This final guidance is available online at http://www.regulations.gov and on FEMA's Web site at http://www.fema.gov. The proposed and final guidance, all related Federal Register Notices, and all public comments received during the comment period are available at http://www.regulations.gov under docket ID FEMA-2016-0011. You may also view a hard copy of the final guidance at the Office of Chief Counsel, Federal Emergency Management Agency, Room 8NE, 500 C Street SW., Washington, DC 20472.

FOR FURTHER INFORMATION CONTACT: Johnathan Torres, Individual Assistance Division, Federal Emergency Management Agency, 500 C Street SW., Washington, DC 20472, (202-212-1079) or (FEMA-IHPUG-Comments@fema.dhs.gov).

SUPPLEMENTARY INFORMATION: FEMA is announcing its final Individuals and Households Program Unified Guidance which describes the policies for the Individuals and Households Program. The final guidance compiles FEMA policy for each type of assistance under the Individuals and Households Program into one comprehensive document and is intended to serve as a singular policy resource for state, local, territorial, and tribal governments, and other entities who assist disaster survivors with post-disaster recovery.

FEMA received 86 comments during the public comment period. None of the comments received were deemed “critical”, and the majority included only minor grammatical and formatting suggestions. Several comments included requests for statement clarification, which were addressed to improve overall policy comprehension. All comments were reviewed and adjudicated, and the Individuals and Households Program Unified Guidance was updated accordingly.

The final guidance does not have the force or effect of law.

Authority: 42 U.S.C. 5174.

David Bibo,
Acting Associate Administrator, Office of Policy and Program Analysis, Federal Emergency Management Agency.

[FR Doc. 2016-23948 Filed 10-3-16; 8:45 am]

BILLING CODE 9111-23-P